ENVIRONMENTAL PROTECTION AGENCY

[ER-FRL-6650-5]

Environmental Impact Statements; Notice of Availability

Responsible Agency: Office of Federal Activities, General Information (202) 564-7167 or http://www.epa.gov/compliance/nepa/.

Weekly receipt of Environmental Impact Statements

Filed April 12, 2004, through April 16, 2004

Pursuant to 40 CFR 1506.9.

EIS No. 040173, DRAFT EIS, FHW, MD, MD-3 Transportation Corridor Study, Address Existing and Projected Operational and Safety Issues, Along MD-3 from North of US-50 to South of MD-32, Funding, NPDES Permit and U.S. Army COE Section 404 Permit, Anne Arundel and Prince George Counties, MD, Comment Period Ends: July 8, 2004, Contact: Caryn Brookman (410) 779-7146.

EIS No. 040174, FINAL EIS, AFS, OR, Juncrock Timber Sale Project, Treat Forest Vegetation, MT. Hood National Forest, Barlow Ranger District, Wasco County, OR, Wait Period Ends: May 24, 2004, Contact: Becky Nelson (541) 467-2291. This document is available on the Internet at: http://www.fs.fed.us/r6/mthood.

EIS No. 040175, FINAL EIS, FHW, NY, Cumberland Head Connector Road Construction, County Road 57 between U.S. 9 and the Peninsula (known as the Parkway), Funding, Town of Plattsburg, Clinton County, NY, Wait Period Ends: May 24, 2004, Contact: Robert Arnold (518) 431-4127.

EIS No. 040176, DRAFT EIS, AFS, MT, Sheep Creek Salvage Project, Moving Current Resource Conditions and Trends Toward Desired Future Conditions, Beaverhead-Deerlodge National Forest, Beaverhead County, MT, Comment Period Ends: June 7, 2004, Contact: Jeffrey L. Trejo (406) 832-3178.

EIS No. 040177, FINAL EIS, FHW, MN, Trunk Highway (TH) 53 Project, Transportation Improvements, from 1.2 km (3/4 mile) South of St. Louis County Road 307 to the South City Limits of Cook, NPDES Permit, COE Section 10 and 404 Permits, St. Louis County, MN, Wait Period Ends: May 24, 2004, Contact: Cheryl Martin (651) 291-6120.

EIS No. 040178, FINAL EIS, USN, CA, Tertiary Treatment Plant and Associated Facilities Construction and Operation, Implementation, Marine Corps Base Camp Pendleton, San Diego County, CA, Wait Period Ends: May 24, 2004, Contact: Lisa Seneca (619) 532-4744.

EIS No. 040179, DRAFT EIS, FAA, IN, Gary/Chicago International Airport Master Plan Development Including Runway Safety Area Enhancement/Extension of Runway 12-30, Funding, Lake County, IN, Comment Period Ends: June 7, 2004, Contact: Prescott C. Snyder (847) 294-9538.

EIS No. 240180, DRAFT EIS, NAS, Programmatic EIS—Mars Exploration Program (MEP) Implementation, Comment Period Ends: June 7, 2004, Contact: Kenneth M. Kumor (202) 358-1112.

EIS No. 040181, DRAFT EIS, COE, MO, Howard Bend Floodplain Area Study, Improvements to Future Land, Future Road and Stormwater Management, US Army COE Section 10 and 404 Permits, Missouri Flood Plain Developments, Cities of Maryland Heights and Chesterfield, St. Louis County, MO, Comment Period Ends: June 7, 2004, Contact: Danny McClendon (314) 331-8574.

EIS No. 040182, FINAL EIS, NOA, PR, VI, Generic Essential Fish Habitat Amendment To: Spiny Lobster, Queen Conch, Reef Fish and Coral Fishery Management Plans, Implementation, U.S. Caribbean, Extending to U.S. Exclusive Economic Zone (EEZ), Virgin Islands and Puerto Rico, Wait Period Ends: May 24, 2004, Contact: David Dale (727) 570-5317.

EIS No. 040183, FINAL EIS, AFS, KY, Daniel Boone National Forest Land and Resource Management Plan Revision, Implementation, Winchester, several counties, KY, Wait Period Ends: May 24, 2004, Contact: Kevin Lawrence (859) 745-3151. This document is available on the Internet at: http://www.southernregion.fs.fed.us/r6/boone.

EIS No. 040184, FINAL EIS, USA, Programmatic EIS—Army Transformation of the 172rd Infantry Brigade (Separate) to a Stryker Brigade Combat Team (SBCT), Propose Location Forts Wainwright and Richardson, AK, Wait Period Ends: May 24, 2004, Contact: Kevin Gardner (907) 384-3331. This document is available on the Internet at: http//www.cemml.colostate.edu/AlaskaEIS/.

EIS No. 040185, FINAL EIS, HUD, NY, Generic EIS—World Trade Center Memorial and Redevelopment Plan, To Remember, Rebuild and Renew what was lost on September 11, 2001, Construction in the Borough of Manhattan, New York County, NY, Wait Period Ends: May 24, 2004, Contact: William H. Kelly (212) 962-2300. This document is available on the Internet at: http://www.renewnyc.com/plan dev/from comments.asp.

Dated: April 20, 2004.
Ken Mittelholtz,
Environmental Protection Specialist, Office of Federal Activities.

[FR Doc. 04-9289 Filed 4-22-04; 8:45 am]

BILLING CODE 6560-50-P